DEPARTMENT OF THE INTERIOR

Bureau of Land Management

[NV-930-1020-PH-WEED]

Use of Weed-Free Forage on Public Lands in Nevada

AGENCY: Bureau of Land Management, Interior.

ACTION: Notice of proposed action.

SUMMARY: The State Director of the Bureau of Land Management (BLM) in Nevada is proposing a requirement that all BLM visitors, permittees, and operators in Nevada use certified noxious weed seed-free hay, straw, or mulch when visiting, or conducting authorized activities on BLM-administered lands in Nevada. This requirement will affect visitors who use hay, straw, or mulch on the BLM-administered lands in Nevada such as: recreationists using pack and saddle stock, ranchers with grazing permits, outfitters, and contractors and operators who use straw or other mulch for re-seeding or reclamation purposes. These individuals or groups would be required to use certified noxious weed seed-free forage and mulch products, or use other approved products such as processed grains and pellets while on BLM-administered lands in Nevada.

DATES: Comments concerning the proposal should be received on or before October 10, 2000.

ADDRESSES: Send written comments concerning the Nevada requirement to: Deputy State Director (930), USDI, Bureau of Land Management, 1340 Financial Blvd, P.O. Box 12000, Reno, Nevada 89520-0006. Comments, including names and street addresses of respondents, will be available for public review at the above address during regular business hours (7:45 a.m. to 4:15 p.m.), Monday through Friday, except holidays, and may be published as part of any NEPA documentation associated with this proposed rulemaking. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

FOR FURTHER INFORMATION CONTACT: Bureau of Land Management, Nevada State Office, Brian C. Amme, Environmental Protection Specialist, Division of Natural Resources, Lands, and Planning, at the above address, or telephone (775) 861-6645.

SUPPLEMENTARY INFORMATION: Noxious weeds are a serious problem in the western United States. Estimates of the rapid spread of weeds in the west include 2,300 acres per day on BLM-administered lands and 4,600 acres per day on all western public lands. Species like perennial pepperweed (tall whitetop), purple loosestrife, yellow starthistle, hoary cress (short whitetop), leafy spurge, spotted knapweed, russian knapweed, diffuse knapweed, squarerose knapweed, scotch thistle, dalmatian toadflax, rush skeletonweed, and many others are non-native to Nevada and the United States and have no natural enemies to keep their populations in balance. Consequently, these undesirable weeds rapidly invade healthy ecosystems, displace native vegetation, reduce species diversity, destroy wildlife habitat, and degrade designated wilderness, wilderness study areas, and other special areas including areas of critical environmental concern (ACECs) and National Conservation Areas (NCAs). Widespread infestations lead to soil erosion and stream sedimentation. Furthermore, noxious weed invasions weaken rehabilitation and landscape restoration efforts, reduce domestic and wild ungulates' grazing capacity, occasionally irritate public land users by aggravating allergies and other ailments, and threaten federally protected plants and animals.

To curb the spread of noxious weeds, a growing number of Western States have jointly developed noxious weed-free forage certification standards, and, in cooperation with various federal, state, and county agencies, passed weed management laws. Because hay, straw, mulch, and other forage products containing noxious weed seed contribute to the spread and establishment infestations, the State of Nevada has recently implemented, a state hay inspection-certification program, participates in a regional inspection-certification-identification process, and encourages, on a voluntary basis, forage producers in Nevada to grow noxious weed-free products. The Nevada Division of Agriculture has documented that growers in Nevada produced 250 acres of certified Timothy hay as of October 30, 1999. The State of Nevada encourages growers to request voluntary certification inspections of all forage products including grass hay, alfalfa hay, a mixture of grass and alfalfa hay, as well as barley and wheat straw.

Region Four of the United States Forest Service, Department of Agriculture, implemented a similar policy for National Forest lands outside of the State of Nevada in 1994, and Forest Units within the State of Nevada on January 1, 2000. The BLM in Nevada encourages all BLM Field Offices to attach a standard stipulation on all Special Recreation Permits and other use authorizations, requiring holders of those permits and authorizations to use certified weed seed-free products. This proposal will provide a standard regulation for all users of BLM public lands in Nevada and will provide for coordinated management with National Forest lands across jurisdictional lines.

In cooperation with the State of Nevada and other federal agencies, the BLM is proposing—for all BLM-administered lands within Nevada—a ban on hay, straw or mulch that has not been certified as weed seed-free. This proposal includes a public information plan to ensure that: (1) This ban is well publicized and understood; and (2) BLM visitors and land users will know where they can purchase state-certified hay or other products. Similar to other agency closure orders, a grace period will be in effect prior to the implementation date of this proposed supplementary rule. This proposal is in conformance with all Land Use Plans within Nevada and consistent with BLM policy on establishing weed-free hay, straw and mulch programs as identified in Washington Office Instruction Memorandum 99-076 (2/25/99).

This supplementary rule will not appear in the Code of Federal Regulations.

The principal author of the proposed supplementary rule is Brian C. Amme, Environmental Protection Specialist, of the Nevada State Office, BLM.

For the reasons stated above, under the authority of 43 CFR 8365.1-6, the Nevada State Office, BLM, proposes the supplementary rule to read as follows:

Supplementary Rules To Require the Use of Certified Noxious Weed Seed-Free Forage on Bureau of Land Management-Administered Lands in Nevada

(a)(1) To prevent the spread of weeds on BLM-administered lands in Nevada, effective October 1, 2001, all BLM lands within the State of Nevada, at all times of the year, shall be closed to possessing or storing hay, straw, or mulch that has not been certified as free of prohibited noxious weed seed.

(2) Certification will comply with “Regional Standards” jointly developed by the states of Nevada, Idaho, Montana, Utah, Wyoming, and Nebraska for noxious weed seed-free and noxious weed-free forage.

(3) The following persons are exempt from this order: anyone with a permit signed by BLM's authorized officer at the Field Office or Field Station specifically authorizing the prohibited act or omission within that Field Office or Station's administered area.

(b) Any person who knowingly and willfully violates the provisions of these supplemental rules regarding the use of non-certified noxious weed-free hay, straw, or mulch when visiting Bureau of Land Management administered lands in Nevada, without authorization required, may be commanded to appear before a designated United States Magistrate and may be subject to a fine of not more than $1,000 or imprisonment of not more than 12 months, or both, as defined in 43 United States Code 1733(a).

Robert V. Abbey,
State Director, Bureau of Land Management, Nevada.

[FR Doc. 00-23023 Filed 9-7-00; 8:45 am]

BILLING CODE 4310-HC-P